DEPARTMENT OF HEALTH AND HUMAN SERVICES

Centers for Disease Control and Prevention

Disease, Disability, and Injury Prevention and Control Special Emphasis Panel: State-Based Occupational Safety and Health Surveillance and Occupational Health and Safety Research, Request for Application (RFA) PAR-04-106; and Occupational Health and Safety Research, RFA PAR-04-038

Correction: This notice was published in the Federal Register on August 17, 2006, Volume 71, Number 159, page 47498. The meeting has been changed to reflect an additional Request for Applications.

Title: State-Based Occupational Safety and Health Surveillance and Occupational Health and Safety Research, RFA PAR-04-106; and Occupational Health and Safety Research, RFA PAR-04-038.

Contact Person for More Information: M. Chris Langub, Scientific Review Administrator, National Institute for Occupational Safety and Health, Centers for Disease Control and Prevention, 1600 Clifton Road NE, MS E-74, Atlanta, GA 30333, Telephone 404.639.2543.

The Director, Management Analysis and Services Office, has been delegated the authority to sign Federal Register notices pertaining to announcements of meetings and other committee management activities, for both CDC and the Agency for Toxic Substances and Disease Registry.

Dated: August 21, 2006.
Alvin Hall,
Director, Management Analysis and Services Office, Centers for Disease Control and Prevention.

[FR Doc. E6-14418 Filed 8-29-06; 8:45 am]

BILLING CODE 4163-18-P